DEPARTMENT OF ENERGY

Federal Energy Regulatory Commission

Combined Notice of Filings #1

Take notice that the Commission received the following exempt wholesale generator filings:

Docket Numbers: EG22-195-000.

Applicants: Powells Creek Farm Solar, LLC.

Description: Powells Creek Farm Solar, LLC submits Notice of Self-Certification of Exempt Wholesale Generator Status.

Filed Date: 7/29/22.

Accession Number: 20220729-5360.

Comment Date: 5 p.m. ET 8/19/22.

Docket Numbers: EG22-196-000.

Applicants: Salt City Solar LLC.

Description: Salt City Solar LLC submits Notice of Self-Certification of Exempt Wholesale Generator Status.

Filed Date: 7/29/22.

Accession Number: 20220729-5361.

Comment Date: 5 p.m. ET 8/19/22.

Docket Numbers: EG22-197-000.

Applicants: ENGIE Solidago Solar LLC.

Description: ENGIE Solidago Solar LLC submits Notice of Self-Certification of Exempt Wholesale Generator Status.

Filed Date: 7/29/22.

Accession Number: 20220729-5362.

Comment Date: 5 p.m. ET 8/19/22.

Docket Numbers: EG22-198-000.

Applicants: Sunnybrook Farm Solar, LLC.

Description: Sunnybrook Farm Solar, LLC submits Notice of Self-Certification of Exempt Wholesale Generator Status.

Filed Date: 7/29/22.

Accession Number: 20220729-5363.

Comment Date: 5 p.m. ET 8/19/22.

Take notice that the Commission received the following electric rate filings:

Docket Numbers: ER10-2437-018.

Applicants: Arizona Public Service Company.

Description: Notice of Change in Status of Arizona Public Service Company.

Filed Date: 7/29/22.

Accession Number: 20220729-5383.

Comment Date: 5 p.m. ET 8/19/22.

Docket Numbers: ER10-2687-006.

Applicants: Monongahela Power Company.

Description: Notice of Non-Material Change in Status of Monongahela Power Company.

Filed Date: 7/29/22.

Accession Number: 20220729-5381.

Comment Date: 5 p.m. ET 8/19/22.

Docket Numbers: ER10-2689-009.

Applicants: West Penn Power Company.

Description: Notice of Non-Material Change in Status of West Penn Power Company.

Filed Date: 7/29/22.

Accession Number: 20220729-5382.

Comment Date: 5 p.m. ET 8/19/22.

Docket Numbers: ER12-1470-013; ER10-3026-011; ER16-1833-008.

Applicants: Sempra Gas & Power Marketing, LLC, Termoelectrica U.S., LLC, Energia Sierra Juarez U.S., LLC.

Description: Notice of Non-Material Change in Status of Energia Sierra Juarez U.S., LLC, et al.

Filed Date: 7/29/22.

Accession Number: 20220729-5392.

Comment Date: 5 p.m. ET 8/19/22.

Docket Numbers: ER13-1865-006.

Applicants: Tesoro Refining & Marketing Company LLC.

Description: Notice of Change in Status of Tesoro Refining & Marketing Company LLC.

Filed Date: 7/29/22.

Accession Number: 20220729-5387.

Comment Date: 5 p.m. ET 8/19/22.

Docket Numbers: ER15-1218-014; ER16-38-012; ER16-39-011; ER16-2501-008; ER16-2502-008; ER17-2341-009; ER17-2453-008; ER18-713-007; ER20-2888-006.

Applicants: Townsite Solar, LLC, CA Flats Solar 150, LLC, Imperial Valley Solar 3, LLC, CA Flats Solar 130, LLC, Tropico, LLC, Nicolis, LLC, Kingbird Solar B, LLC, Kingbird Solar A, LLC, Solar Star California XIII, LLC.

Description: Notice of Change in Status of Solar Star California XIII, LLC, et al.

Filed Date: 7/29/22.

Accession Number: 20220729-5380.

Comment Date: 5 p.m. ET 8/19/22.

Docket Numbers: ER16-262-003.

Applicants: Uniper Global Commodities North America LLC.

Description: Notice of Non-Material Change in Status of Uniper Global Commodities North America LLC.

Filed Date: 7/29/22.

Accession Number: 20220729-5394.

Comment Date: 5 p.m. ET 8/19/22.

Docket Numbers: ER17-350-001.

Applicants: ITC Lake Erie Connector, LLC.

Description: Notice of Withdrawal of July 1, 2022 Compliance Filing of ITC Lake Erie Connector LLC.

Filed Date: 7/28/22.

Accession Number: 20220728-5234.

Comment Date: 5 p.m. ET 8/18/22.

Docket Numbers: ER17-1981-001; ER17-1984-001; ER17-1988-001; ER22-2574-000; ER22-2575-000.

Applicants: Big Savage, LLC, Highland North LLC, Patton Wind Farm, LLC, Vitol Inc., Big Sky Wind, LLC, Patton Wind Farm, LLC, Highland North LLC, Big Savage, LLC.

Description: Notice of Change in Status of Big Savage, LLC, et al.

Filed Date: 7/29/22.

Accession Number: 20220729-5379.

Comment Date: 5 p.m. ET 8/19/22.

Docket Numbers: ER19-1280-005; ER19-1281-005.

Applicants: Lexington Chenoa Wind Farm LLC, Broadlands Wind Farm LLC.

Description: Notice of Change in Status of Broadlands Wind Farm LLC, et al.

Filed Date: 7/29/22.

Accession Number: 20220729-5393.

Comment Date: 5 p.m. ET 8/19/22.

Docket Numbers: ER20-1718-004.

Applicants: New York Independent System Operator, Inc.

Description: Compliance filing: Compliance filing of tariff revisions for Part A enhancements.

Filed Date: 8/1/22.

Accession Number: 20220801-5137.

Comment Date: 5 p.m. ET 8/22/22.

Docket Numbers: ER21-58-000.

Applicants: TransAlta Energy Marketing (U.S.) Inc.

Description: Refund Report: Refund Report to be effective N/A.

Filed Date: 8/1/22.

Accession Number: 20220801-5098.

Comment Date: 5 p.m. ET 8/22/22.

Docket Numbers: ER22-1065-002.

Applicants: Rabbitbrush Solar, LLC.

Description: Notice of Change in Status of Rabbitbrush Solar, LLC.

Filed Date: 8/1/22.

Accession Number: 20220801-5160.

Comment Date: 5 p.m. ET 8/22/22.

Docket Numbers: ER22-2044-001.

Applicants: Just Energy Limited.

Description: Tariff Amendment: Just Energy Limited Amendment to Market-Based Rate Application to be effective 8/6/2022.

Filed Date: 8/1/22.

Accession Number: 20220801-5158.

Comment Date: 5 p.m. ET 8/22/22.

Docket Numbers: ER22-2358-001.

Applicants: Versant Power.

Description: Compliance filing: Errata (Amended) Order No. 881 Compliance Filing (ER22-2358) to be effective 7/12/2025.

Filed Date: 8/1/22.

Accession Number: 20220801-5110.

Comment Date: 5 p.m. ET 8/22/22.

Docket Numbers: ER22-2562-000.

Applicants: Midcontinent Independent System Operator, Inc., Entergy Services, LLC.

Description: § 205(d) Rate Filing: Midcontinent Independent System Operator, Inc. submits tariff filing per 35.13(a)(2)(iii): 2022-07-29_Entergy Operating Companies True-Up Filing to be effective 6/1/2021.

Filed Date: 7/29/22.

Accession Number: 20220729-5242.

Comment Date: 5 p.m. ET 8/19/22.

Docket Numbers: ER22-2563-000.

Applicants: Tri-State Generation and Transmission Association, Inc.

Description: § 205(d) Rate Filing: Initial Filing of Rate Schedule FERC No. 343 to be effective 9/27/2022.

Filed Date: 7/29/22.

Accession Number: 20220729-5248.

Comment Date: 5 p.m. ET 8/19/22.

Docket Numbers: ER22-2564-000.

Applicants: Tri-State Generation and Transmission Association, Inc.

Description: § 205(d) Rate Filing: Initial Filing of Rate Schedule FERC No. 344 to be effective 9/27/2022.

Filed Date: 7/29/22.

Accession Number: 20220729-5252.

Comment Date: 5 p.m. ET 8/19/22.

Docket Numbers: ER22-2565-000.

Applicants: Tri-State Generation and Transmission Association, Inc.

Description: Tariff Amendment: Notice of Cancellation of Service Agreements Nos. 325 and 326 to be effective 9/27/2022.

Filed Date: 7/29/22.

Accession Number: 20220729-5258.

Comment Date: 5 p.m. ET 8/19/22.

Docket Numbers: ER22-2566-000.

Applicants: PJM Interconnection, L.L.C.

Description: § 205(d) Rate Filing: Amendment to ISA, Service Agreement No. 6131; Queue No. AE2-042 to be effective 7/15/2021.

Filed Date: 7/29/22.

Accession Number: 20220729-5282.

Comment Date: 5 p.m. ET 8/19/22.

Docket Numbers: ER22-2567-000.

Applicants: Portland General Electric Company.

Description: § 205(d) Rate Filing: Revised Volume 14 Version 3.0 to be effective 10/1/2022.

Filed Date: 8/1/22.

Accession Number: 20220801-5001.

Comment Date: 5 p.m. ET 8/22/22.

Docket Numbers: ER22-2568-000.

Applicants: New England Power Pool Participants Committee.

Description: § 205(d) Rate Filing: Aug 2022 Membership Filing to be effective 7/1/2022.

Filed Date: 8/1/22.

Accession Number: 20220801-5002.

Comment Date: 5 p.m. ET 8/22/22.

Docket Numbers: ER22-2569-000.

Applicants: Dickerson Power, LLC.

Description: § 205(d) Rate Filing: Proposed Revisions to Reactive Service Rate Schedule to be effective 10/23/2022.

Filed Date: 8/1/22.

Accession Number: 20220801-5036.

Comment Date: 5 p.m. ET 8/22/22.

Docket Numbers: ER22-2570-000.

Applicants: Sierra Pacific Power Company.

Description: § 205(d) Rate Filing: SPPC Revised Rate Schedule No. 42 to be effective 10/1/2022.

Filed Date: 8/1/22.

Accession Number: 20220801-5059.

Comment Date: 5 p.m. ET 8/22/22.

Docket Numbers: ER22-2571-000.

Applicants: Versant Power.

Description: § 205(d) Rate Filing: Re-collation of 3 Records in eTariff Public Viewer for-MPD OATT to be effective 8/1/2022.

Filed Date: 8/1/22.

Accession Number: 20220801-5093.

Comment Date: 5 p.m. ET 8/22/22.

Docket Numbers: ER22-2572-000.

Applicants: UGI Utilities, Inc., PJM Interconnection, L.L.C.

Description: § 205(d) Rate Filing: UGI Utilities, Inc. submits tariff filing per 35.13(a)(2)(iii): UGIU revisions to Formula Rate regarding Single-Issue Depreciation Rate to be effective 10/1/2022.

Filed Date: 8/1/22.

Accession Number: 20220801-5095.

Comment Date: 5 p.m. ET 8/22/22.

Docket Numbers: ER22-2573-000.

Applicants: PJM Interconnection, L.L.C.

Description: § 205(d) Rate Filing: Original ICSAs, Service Agreement Nos. 6546 and 6547; Queue No. AD1-152 to be effective 7/1/2022.

Filed Date: 8/1/22.

Accession Number: 20220801-5100.

Comment Date: 5 p.m. ET 8/22/22.

Docket Numbers: ER22-2576-000.

Applicants: Alabama Power Company, Georgia Power Company, Mississippi Power Company.

Description: § 205(d) Rate Filing: Alabama Power Company submits tariff filing per 35.13(a)(2)(iii): NextEra Energy Resources (Lawrence Creek Solar) LGIA Filing to be effective 7/18/2022.

Filed Date: 8/1/22.

Accession Number: 20220801-5112.

Comment Date: 5 p.m. ET 8/22/22.

Docket Numbers: ER22-2577-000.

Applicants: Alabama Power Company, Georgia Power Company, Mississippi Power Company.

Description: § 205(d) Rate Filing: Alabama Power Company submits tariff filing per 35.13(a)(2)(iii): Montgomery Solar (Solar & Storage) LGIA Filing to be effective 7/18/2022.

Filed Date: 8/1/22.

Accession Number: 20220801-5113.

Comment Date: 5 p.m. ET 8/22/22.

Docket Numbers: ER22-2579-000.

Applicants: Georgia Power Company, Mississippi Power Company, Alabama Power Company.

Description: § 205(d) Rate Filing: Georgia Power Company submits tariff filing per 35.13(a)(2)(iii): Dothan Solar (Solar & Storage) LGIA Filing to be effective 7/18/2022.

Filed Date: 8/1/22.

Accession Number: 20220801-5118.

Comment Date: 5 p.m. ET 8/22/22.

Docket Numbers: ER22-2580-000.

Applicants: CPV Three Rivers, LLC.

Description: Baseline eTariff Filing: Application for Market-Based Rate Authority to be effective 10/1/2022.

Filed Date: 8/1/22.

Accession Number: 20220801-5131.

Comment Date: 5 p.m. ET 8/22/22.

Docket Numbers: ER22-2581-000.

Applicants: Power Authority of the State of New York, New York Independent System Operator, Inc.

Description: § 205(d) Rate Filing: Power Authority of the State of New York submits tariff filing per 35.13(a)(2)(iii): Section 205 filing of NYPA proposed depreciation rate updates in Formula Rate to be effective 10/1/2022.

Filed Date: 8/1/22.

Accession Number: 20220801-5178.

Comment Date: 5 p.m. ET 8/22/22.

Take notice that the Commission received the following electric securities filings:

Docket Numbers: ES22-61-000.

Applicants: AEP Texas Inc.

Description: Application Under Section 204 of the Federal Power Act for Authorization to Issue Securities of AEP Texas Inc.

Filed Date: 7/29/22.

Accession Number: 20220729-5391.

Comment Date: 5 p.m. ET 8/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2022.
Debbie-Anne A. Reese,
Deputy Secretary.

[FR Doc. 2022-16833 Filed 8-4-22; 8:45 am]

BILLING CODE 6717-01-P